DEPARTMENT OF TRANSPORTATION

National Highway Traffic Safety Administration

[Docket No. NHTSA-2005-20275]

Impaired-Driving Program Assessments; Technical Report

AGENCY: National Highway Traffic Safety Administration (NHTSA), Department of Transportation.

ACTION: Request for comments on technical report.

SUMMARY: This notice announces NHTSA's publication of a technical report summarizing and comparing the findings in 38 Assessments of State programs to control impaired driving. The report's title is Impaired-Driving Program Assessments—A Summary of Recommendations (1991 to 2003).

DATES: Comments must be received no later than June 8, 2005.

ADDRESSES: Report: The report is available on the Internet for viewing on line in HTML and in PDF format at http://www.nhtsa.dot.gov/cars/rules/regrev/evaluate/809815.html. You may also obtain a copy of the report free of charge by sending a self-addressed mailing label to Charles Kahane (NPO-131), National Highway Traffic Safety Administration, 400 Seventh Street, SW., Washington, DC 20590.

Comments: You may submit comments [identified by DOT DMS Docket Number NHTSA-2005-20275] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

You may call Docket Management at 1-800-647-5527 or visit the Docket from 9 a.m. to 5 p.m., Monday through Friday.

FOR FURTHER INFORMATION CONTACT: Charles Kahane, Chief, Evaluation Division, NPO-131, National Center for Statistics and Analysis, National Highway Traffic Safety Administration, Room 5208, 400 Seventh Street, SW., Washington, DC 20590. Telephone: 202-366-2560. FAX: 202-366-2559. E-mail: ckahane@nhtsa.dot.gov.

For information about NHTSA's evaluations of the effectiveness of existing regulations and programs: Visit the NHTSA Web site at http://www.nhtsa.dot.gov/cars/rules/regrev/evaluate.

SUPPLEMENTARY INFORMATION: NHTSA developed an assessment process that gives States an opportunity to conduct a review of their efforts to control impaired driving by an outside team of nationally recognized experts. Each assessment examines a State's overall program and presents recommendations to improve or enhance it. NHTSA reviewed 38 State assessment reports and found 2,982 individual recommendations, including 852 that were identified as priority recommendations by the teams.

Most of the recommendations fit into ten broad thematic areas: (1) Increasing deterrence by prioritizing enforcement efforts and enhancing the arrest, prosecution, and adjudication process; (2) improving public information and education efforts related to prevention and deterrence; (3) remedying problems involving DUI data and records (reporting requirements, offender tracking systems, data linkages, uniform traffic citations); (4) enacting new laws or revising existing laws aimed at increasing the deterrence and/or prevention of DUI; (5) enhancing training for law enforcement, prosecution, and judicial personnel; (6) evaluating programs and activities to combat impaired driving; (7) providing sufficient resources for treatment and rehabilitation; (8) improving inter/intra-governmental coordination and cooperation; (9) providing funding (including self-sufficiency) to provide for adequate resources (personnel, equipment); and (10) developing or increasing task forces and/or community involvement.

How Can I Influence NHTSA's Thinking on This Subject?

NHTSA welcomes public review of the technical report and invites reviewers to submit comments about the analyses. NHTSA will submit to the Docket a response to the comments and, if appropriate, additional analyses that supplement or revise the technical report.

How Do I Prepare and Submit Comments?

Your comments must be written and in English. To ensure that your comments are correctly filed in the Docket, please include the Docket number of this document (NHTSA-2005-20275) in your comments.

Your primary comments must not be more than 15 pages long (49 CFR 553.21). However, you may attach additional documents to your primary comments. There is no limit on the length of the attachments.

Please send a paper copy of your comments to Docket Management, submit them electronically, fax them, or use the Federal eRulemaking Portal. The mailing address is U. S. Department of Transportation Docket Management, Room PL-401, 400 Seventh Street, SW., Washington, DC 20590. If you submit your comments electronically, log onto the Dockets Management System Web site at http://dms.dot.gov and click on “Help” to obtain instructions. The fax number is 1-202-493-2251. To use the Federal eRulemaking Portal, go to http://www.regulations.gov and follow the online instructions for submitting comments.

We also request, but do not require you to send a copy to Charles Kahane, Chief, Evaluation Division, NPO-131, National Highway Traffic Safety Administration, Room 5208, 400 Seventh Street, SW, Washington, DC 20590 (alternatively, FAX to 202-366-2559 or e-mail to ckahane@nhtsa.dot.gov). He can check if your comments have been received at the Docket and he can expedite their review by NHTSA.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send a copy from which you have deleted the claimed confidential business information to Docket Management, Room PL-401, 400 Seventh Street, SW., Washington, DC 20590, or submit them electronically.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 9 a.m. to 5 p.m., Monday through Friday.

You may also see the comments on the Internet by taking the following steps:

A. Go to the Docket Management System (DMS) Web page of the Department of Transportation (http://dms.dot.gov).

B. On that page, click on “Simple Search.”

C. On the next page ((http://dms.dot.gov/search/searchFormSimple.cfm/) type in the five-digit Docket number shown at the beginning of this Notice (20275). Click on “Search.”

D. On the next page, which contains Docket summary information for the Docket you selected, click on the desired comments. You may also download the comments.

Authority: 49 U.S.C. 30111, 30168; delegation of authority at 49 CFR 1.50 and 501.8.

Joseph S. Carra,
Associate Administrator for the National Center for Statistics and Analysis.

[FR Doc. 05-2430 Filed 2-7-05; 8:45 am]

BILLING CODE 4910-59-P